ENVIRONMENTAL PROTECTION AGENCY

40 CFR Part 52

[IN132-1b; FRL-6985-4]

Approval and Promulgation of Implementation Plans; Indiana

AGENCY: Environmental Protection Agency (EPA).

ACTION: Proposed rule.

SUMMARY: The EPA is proposing to approve revisions to particulate matter emissions regulations for Illinois Cereal Mills, Incorporated (Illinois Cereal Mills). This facility is located in Marion County, Indiana. The Indiana Department of Environmental Management (IDEM) submitted the revised regulations on August 2, 2000 as an amendment to its State Implementation Plan (SIP). The revisions are the relaxation of one limit and the tightening of one other limit. These SIP revisions result in no change in the overall particulate matter emissions.

DATES: The EPA must receive written comments on this proposed rule by July 2, 2001.

ADDRESSES: You should mail written comments to: J. Elmer Bortzer, Chief, Regulation Development Section, Air Programs Branch (AR-18J), U.S. Environmental Protection Agency, Region 5, 77 West Jackson Boulevard, Chicago, Illinois 60604.

You may inspect copies of Indiana's submittal at: Regulation Development Section, Air Programs Branch (AR-18J), U.S. Environmental Protection Agency, Region 5, 77 West Jackson Boulevard, Chicago, Illinois 60604.

FOR FURTHER INFORMATION CONTACT: Matt Rau, Environmental Engineer, Regulation Development Section, Air Programs Branch (AR-18J), U.S. Environmental Protection Agency, Region 5, 77 West Jackson Boulevard, Chicago, Illinois 60604, Telephone Number: (312) 886-6524, E-Mail Address: rau.matthew@epa.gov.

SUPPLEMENTARY INFORMATION: Throughout this document wherever “we,” “us,” or “our” are used we mean the EPA.

Table of Contents

I. What actions are EPA taking today?

II. Where can I find more information about this proposal and the corresponding direct final rule?

I. What Actions Are EPA Taking Today?

The EPA is proposing to approve revisions to the total suspended particulate emissions regulations for Illinois Cereal Mills in Marion County, Indiana. IDEM submitted the revised regulation on August 2, 2000 as an amendment to its SIP.

The revisions are the relaxation of one limit for a boiler and the tightening of one other limit for the head house portion of a grain elevator. These SIP revisions result in no change in the overall TSP emissions.

II. Where Can I Find More Information About This Proposal and the Corresponding Direct Final Rule?

For additional information see the direct final rule published in the rules section of this Federal Register.

Dated: May 9, 2001.
Norman Neidergang,
Acting Regional Administrator, Region 5.

[FR Doc. 01-13507 Filed 5-30-01; 8:45 am]

BILLING CODE 6560-50-P